ENVIRONMENTAL PROTECTION AGENCY

40 CFR Part 63

[FRL 7429.2]

RIN 2060-AG99, 2060-AG52, 2060-AG69, 2060-AG67, 2060-AG96, 2060-AH03

National Emission Standards for Hazardous Air Pollutants: Stationary Combustion Turbines, Surface Coating of Metal Cans, and Primary Magnesium Refining

AGENCY: Environmental Protection Agency (EPA).

ACTION: Notice of availability of proposed rules and changes to public comment periods.

SUMMARY: This document is to inform the public that the proposed national emission standards for hazardous air pollutants (NESHAP) for Stationary Combustion Turbines, Surface Coating of Metal Cans, and Primary Magnesium Refining have been signed by the Administrator and are scheduled to be published as proposed rules in the Federal Register within a few weeks. Copies are available on EPA's Web site. We typically allow a 60-day public comment period after publication of proposed NESHAP in the Federal Register; however, we are providing advance notice that when these proposed rules are published in the Federal Register, the comment period will be 30 days after publication.

FOR FURTHER INFORMATION CONTACT: Mr. Keith W. Barnett, Minerals and Inorganic Chemicals Group, Emission Standards Division (C504-05), U.S. EPA, Research Triangle Park, North Carolina 27711, facsimile number (919) 541-5600, telephone number (919) 541-5605, electronic mail barnett.keith@epa.gov.

SUPPLEMENTARY INFORMATION: An electronic copy of today's notice is available on the Worldwide Web through the Technology Transfer Network (TTN). Following the Assistant Administrator's signature, a copy of this notice will be posted on the TTN's policy and guidance page for newly proposed or promulgated rules at http://www.epa.gov/ttn/oarpg. In addition, electronic versions of all these proposed NESHAP that are affected by this notice are also currently available on the TTN at http://www.epa.gov/ttn/oarpg/new.html. The TTN provides information and technology exchange in various areas of air pollution control. If more information regarding the TTN is needed, call the TTN HELP line at (919) 541-5384.

In accordance with section 112(e)(1) of the Clean Air Act (CAA), EPA issued a schedule for promulgation of NESHAP that specified that the NESHAP for Stationary Combustion Turbines, Surface Coating of Metal Cans, and Primary Magnesium Refining were to be promulgated as final rules by November 15, 2000. We are now considerably past that date. In addition, the requirements of section 112(j) of the CAA specify that all sources in these source categories must submit permit applications for case-by-case determinations of the maximum achievable emissions reductions of hazardous air pollutants in the absence of a final rule. It is imperative that these proposed rules be finalized as soon as possible to avoid the unnecessary expenditure of resources by affected sources and permitting authorities.

The proposed NESHAP were signed by the Administrator on November 26, 2002, and were available on the TTN on the same day. Therefore, the proposed NESHAP have been widely available to the public since that time. We do not anticipate that any of the proposed NESHAP will be published in the Federal Register prior to December 26, 2002. If we allow a comment period of 30 days from actual publication in the Federal Register, the proposed NESHAP will still have been widely available to the public for 60 days or more.

Dated: December 20, 2002.
Jeffrey R. Holmstead,
Assistant Administrator for Air and Radiation.

[FR Doc. 02-32718 Filed 12-31-02; 10:34 am]

BILLING CODE 6560-50-P